DEPARTMENT OF HOUSING AND URBAN DEVELOPMENT

24 CFR Part 1000

[Docket No. FR-4676-N-06]

Indian Housing Block Grant Allocation Formula: Notice of Establishment of Negotiated Rulemaking Committee and Announcement of Final List of Committee Members

AGENCY: Office of the Assistant Secretary for Public and Indian Housing, HUD.

ACTION: Notice.

SUMMARY: HUD announces the establishment of its Indian Housing Block Grant Allocation Formula Negotiated Rulemaking Committee, consistent with the Negotiated Rulemaking Act of 1990. In addition, this notice announces the final list of committee members. The committee will negotiate a proposed rule to revise the allocation formula used under the Indian Housing Block Grant (IHBG) Program. This document follows publication of July 16, 2001, July 5, 2002, and January 22, 2003, notices advising the public of HUD's intent to establish the negotiated rulemaking committee and soliciting nominations for membership on the committee.

DATES: The first meeting of the negotiated rulemaking committee will be held on Tuesday, April 29, 2003, Wednesday, April 30, 2003, and Thursday, May 1, 2003. The meetings will start at 9 a.m. each day and are scheduled to adjourn at 4 p.m. each day.

ADDRESSES: The meetings will take place at the Adams-Mark Hotel, 1550 Court Place Street, Denver, Colorado 80202; telephone (303) 893-3333.

FOR FURTHER INFORMATION CONTACT: Rodger J. Boyd, Deputy Assistant Secretary for Native American Programs, Room 4126, Office of Public and Indian Housing, Department of Housing and Urban Development, 451 Seventh Street, SW., Washington, DC 20410, telephone, (202) 401-7914 (this is not a toll-free number). Hearing or speech-impaired individuals may access this number via TTY by calling the toll-free Federal Information Relay Service at 1-800-877-8339.

SUPPLEMENTARY INFORMATION:

I. Background

With tribal participation, HUD developed the March 12, 1998 (63 FR 12349), final rule that implemented the Native American Housing Assistance and Self-Determination Act (25 U.S.C. 4101 et seq.) (NAHASDA). Following the procedures of the Negotiated Rulemaking Act of 1990 (5 U.S.C. 561-570), the committee negotiated the March 12, 1998, final rule, which created a new 24 CFR part 1000 containing the Indian Housing Block Grant (IHBG) regulations. NAHASDA established the IHBG Program by reorganizing housing assistance to Native Americans and eliminating and consolidating a number of HUD assistance programs. In addition to creating a single housing assistance program, NAHASDA provides Federal assistance for Indian tribes in a manner that recognizes the right of Indian self-determination and tribal self-government.

The amount of assistance made to Indian tribes is determined using a formula, developed as part of the NAHASDA negotiated rulemaking process. A regulatory description of this formula is located in subpart D of 24 CFR part 1000 (§§ 1000.301-1000.340). In general, the amount of funding for a tribe is the sum of the formula's Need component and the Formula Current Assisted Stock (FCAS) component, subject to a minimum funding amount authorized by § 1000.328. Based on the amount of funding appropriated annually for the IHBG Program, HUD calculates the annual grant for each tribe and conveys this information to Indian tribes. An Indian Housing Plan (IHP) for the tribe is then submitted to HUD. If the IHP is found to be in compliance with the statutory and regulatory requirements, the grant is made.

Section 1000.306 of the IHBG Program regulations provides that the allocation formula shall be reviewed within five years after issuance. This 5-year period closes in March 2003. Further, the Omnibus Indian Advancement Act (Pub. L. 105-568, approved December 27, 2000), makes several statutory changes to the IHBG allocation formula that HUD has decided to implement through rulemaking. Accordingly, HUD believes this would be an appropriate time to review the IHBG formula.

II. The Indian Housing Block Grant Allocation Formula Negotiated Rulemaking Committee

Through this notice, HUD announces the establishment of its Indian Housing Block Grant Allocation Formula Negotiated Rulemaking Committee. The committee will negotiate a proposed rule to revise the allocation formula used for the IHBG Program. In addition, section IV of this notice announces the final list of negotiated rulemaking committee members.

HUD first published a notice of intent to establish a negotiated rulemaking committee on July 16, 2001 (66 FR 37098), but due to the events of September 11, 2001, HUD was not able to act on the notice within the timeframes originally intended. Accordingly, HUD published a July 5, 2002, notice, which (1) again advised the public of HUD's intent to establish the negotiated rulemaking committee; (2) solicited public comments on the proposed membership of the committee; (3) explained how persons could be nominated for membership to the committee; and (4) announced the names of those who successfully completed applications under the original July 16, 2001, notice. In particular, HUD solicited committee members from among elected officers of tribal governments (or authorized designees of those tribal governments) with a definable stake in the outcome of a proposed rule. On January 22, 2003 (68 FR 3112), HUD published a third Federal Register notice, announcing the list of proposed members for the negotiated rulemaking committee, and requesting additional public comment on the proposed membership.

III. Discussion of Public Comments Received on the January 22, 2003, Notice

The public comment period on the January 22, 2003, notice closed on February 21, 2003. The notice was of interest to Indian country, as demonstrated by the 40 public comments that HUD received on the notice. This section presents a summary of the issues raised by the commenters on the January 22, 2003, notice, and HUD's responses to these issues.

Comment: HUD failed to provide response to public comments on previous notices. Several commenters wrote that HUD had not responded to comments submitted in response to the two earlier Federal Register notices.

HUD response. HUD disagrees, and notes that it has made several changes to this negotiated rulemaking process as a result of the comments received on the July 16, 2001, and July 5, 2002, notices. Among other such modifications, HUD expanded the size of the committee from 18 to 24 members, and increased the number of HUD representatives from one to two for a total of 26 committee members. HUD also clarified that the relevant qualifying experience for membership on the committee included experience as a housing practitioner, and extended the time for nominees with incomplete applications to submit the missing information. Further, HUD clarified the meaning of the terms “small,” “medium,” and “large” tribes in response to commenters requesting such clarification. In addition, HUD sought a second round of nominations in response to concerns that there was insufficient geographic diversity among the original candidates for committee membership.

Comment: The qualifications for membership on the committee were unclear. Several commenters expressed this concern.

HUD response. As discussed in the response to the preceding comments, HUD has clarified and addressed any questions regarding the qualifications for membership on the negotiated rulemaking committee. HUD believes that the qualifications were understood by the vast majority of Indian tribes, as evidenced by the large number of highly qualified candidates that were nominated for membership on the committee.

Comment: Adequate time must be given to the committee to complete its work. Several commenters made this recommendation.

HUD response. HUD agrees, and is committed to ensuring that the negotiated rulemaking committee is provided with sufficient time to complete the development of a proposed rule.

Comment: Small tribes will need a special allocation of travel funds to attend the negotiated rulemaking committee meetings. Several commenters made this suggestion.

HUD response. HUD is sympathetic to the concerns expressed by these commenters, and notes that travel expenses are an eligible expense under the IHBG Program.

Comment: Comments regarding committee membership. Several commenters wrote that the number of committee members does not adequately represent all tribal interests. Other commenters wrote that the proposed committee membership did not represent an adequate balance of geographically diverse small, medium and large tribes.

HUD response. HUD believes that the final committee membership reflects a balanced representation of all Indian tribes. As noted in a preceding response, HUD increased the number of committee members from 18 to 26 in response to comments received from the tribes. Further, HUD sought a second round of nominations in response to concerns that there was insufficient geographic diversity among the original candidates for committee membership.

Comment: HUD should also establish a list of alternate committee members to represent the interests of members unable to attend committee meetings. Several commenters made this suggestion. The commenters wrote that it is important to select alternates so that a member's particular interests will be represented even if the member is unable to attend a committee meeting.

HUD response. Rather than pre-selecting a team of alternates, HUD has determined that each committee member should have the discretion to decide who will best represent them in their absence. A committee member unable to attend any session should inform the committee in writing as to whom they have selected to represent them.

Comment: Support for proposed committee members and additional nominations for membership. The majority of the additional comments received were letters in support of particular proposed committee members, along with several letters from interested parties nominating other individuals the commenter felt would better represent particular interests.

HUD response. HUD appreciates the support expressed by the commenters, as well as the additional nominations for committee membership. If a tribe requested that its tribal representative be replaced with a substitute, HUD has honored that request. The number of highly qualified individuals nominated for membership has helped to ensure the success of this negotiated rulemaking process. HUD looks forward to working with its tribal partners in the development of proposed changes to the IHBG Formula.

IV. Final Membership of the Negotiated Rulemaking Committee

This section announces the final list of negotiated rulemaking committee members. In making the selections for membership on the negotiated rulemaking committee, HUD's goal was to establish a committee whose membership reflects a balanced representation of Indian tribes. In addition to the tribal members of the committee, there will be two HUD representatives on the negotiated rulemaking committee. The firm of Carr, Falkner & Swanson will serve as facilitators.

The final list of members of the Indian Housing Block Grant Allocation Formula Negotiated Rulemaking Committee is as follows:

Tribal Members

Eddie L. Tullis, Tribal Chairman, Poarch Band of Creek Indians, Atmore, Alabama.

Joel M. Frank, Housing Director, Seminole Tribe of Florida, Hollywood, Florida.

Beasley Denson, Vice Chief, Mississippi Band of Choctaw Indians, Choctaw, Mississippi.

Bruce K. LaPointe, Development Director, Sault St. Marie Housing Authority, Sault Ste. Marie, Michigan.

Bill Anoatubby, Governor, The Chickasaw Nation, Ada, Oklahoma.

Russell Sossamon, Executive Director, Housing Authority of the Choctaw Nation of Oklahoma, Hugo, Oklahoma.

Robert B. Carlile III, Executive Director, Citizen Potawatomi Nation Housing Authority, Shawnee, Oklahoma.

Marvin Jones, Executive Director, Community Services, Cherokee Nation, Tahlequah, Oklahoma.

Jack Sawyers, Executive Director, Utah Paiute Tribal Housing Authority, Cedar City, Utah.

Robert Gauthier, Executive Director, Salish and Kootenai Housing Authority, Pablo, Montana.

Wayne Ducheneaux, Executive Director, Cheyenne River Housing Authority, Eagle Butte, South Dakota.

Darlene Tooley, Executive Director, Northern Circle Indian Housing Authority, Ukiah, California.

Michael L. Reed, Chief Executive Officer, Cocopah Indian Housing and Development, Somerton, Arizona.

Terry Hudson, Executive Director, Northern Pueblos Housing Authority, Espanola, New Mexico.

Judith Marasco, Executive Director, Yurok Indian Housing Authority, Klamath, California.

Johnny Naize, Tribal Council Member, Navajo Nation, Window Rock, Navajo Nation, Arizona.

Brian Wallace, Chairman, Washoe Tribe of Nevada and California, South Gardnerville, Nevada.

Larry Coyle, Tribal Council Member, Cowlitz Tribe, Oakville, Washington.

Tim King, Tribal Council Member, Samish Indian Nation, Seattle, Washington.

Virginia Brings Yellow, Tribal Council Member, Quinault Indian Nation, Taholah, Washington.

Marty Shuravloff, Executive Director, Kodiak Island Housing Authority, Kodiak, Alaska.

Blake Y. Kazama, Executive Director, Tlingit-Haida Regional Housing Authority, Juneau, Alaska.

Ron Hoffman, Executive Director, Association of Village Council Presidents, Regional Housing Authority, Bethel, Alaska.

Carol Gore, Executive Director, Cook Inlet Housing Authority, Anchorage, Alaska.

HUD Representatives

Michael M. Liu, Assistant Secretary for Public and Indian Housing.

Rodger J. Boyd, Deputy Assistant Secretary for Native American Programs.

V. First Committee Meeting

The first meeting of the Indian Housing Block Grant Allocation Formula Negotiated Rulemaking Committee will be on Tuesday, April 29, 2003, Wednesday, April 30, 2003, and Thursday, May 1, 2003. The meetings will start at 9 a.m. each day and are scheduled to adjourn at 4 p.m. each day. The meetings will take place at the Adams-Mark Hotel, 1550 Court Place Street, Denver, Colorado 80202.

The agenda planned for the meeting includes: (1) Orienting members to the negotiated rulemaking process; (2) establishing a basic set of understandings and ground rules (protocols) regarding the process that will be followed in seeking a consensus; and (3) discussion of the issues relating to the IHBG Allocation Formula.

The meeting will be open to the public without advance registration. Public attendance may be limited to the space available. Members of the public may make statements during the meeting, to the extent time permits, and file written statements with the committee for its consideration. Written statements should be submitted to the address listed in the FOR FURTHER INFORMATION section of this document.

VI. Future Committee Meetings

Decisions with respect to future meetings will be made at the first meeting and from time to time thereafter. Notices of all future meetings will be published in the Federal Register. HUD will make every effort to publish such notices at least 15 calendar days prior to each meeting.

Dated: April 1, 2003.
Michael Liu,
Assistant Secretary for Public and Indian Housing.

[FR Doc. 03-8550 Filed 4-7-03; 8:45 am]

BILLING CODE 4210-33-P